AFRICAN DEVELOPMENT FOUNDATION

Notice; Board of Directors Meeting

Time: Monday, May 5, 2008, 2:30 p.m. to 4:30 p.m.

Place: African Development Foundation, Conference Room, 1400 I Street, NW., Suite 1000, Washington, DC 20005.

Date: Monday, May 5, 2008.

Status:

1. Closed session, Monday, May 5, 2008, 2:30 p.m. to 3:30 p.m.; and

2. Open session, Monday, May 5, 2008, 3:30 p.m. to 4:30 p.m.

Due to security requirements and limited seating, all individuals wishing to attend the open session of the meeting must notify Doris Martin, General Counsel, at (202) 673-3916 or Michele M. Rivard at mrivard@usadf.gov of your request to attend by 5 p.m. on Wednesday, April 30, 2008.

Lloyd O. Pierson,
President.

[FR Doc. E8-7819 Filed 4-11-08; 8:45 am]

BILLING CODE 6117-01-P